DEPARTMENT OF LABOR

Office of the Secretary

Submission for OMB Review; Comment Request

June 25, 2003.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation, contact Darrin King on 202-693-4129 (this is not a toll-free number) or E-Mail: king.darrin@dol.gov.

Comments should be sent to Office of Information and Regulatory Affairs, Attn: OMB Desk Officer for the Mine Safety and Health Administration (MSHA), Office of Management and Budget, Room 10235, Washington, DC 20503 (202-395-7316 this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Mine Safety and Health Administration.

Type of Review: Extension of a currently approved collection.

Title: Notification of Methane Detected in Mine Atmosphere.

OMB Number: 1219-0103.

Frequency: On occasion and Weekly.

Type of Response: Recordkeeping and Reporting.

Affected Public: Business or other for-profit.

Number of Respondents: 8.

Information collection requirement | Frequency | Annual responses | Average response time (hours) | Annual burden hours
Notifying MSHA | On occasion | 1 | 0.25 | 0.25
Weekly Certification Record | Weekly | 364 | 0.08 | 30
Notifying Miners of Hazardous Conditions | On occasion | 7 | 0.17 | 1
Grand Total |  | 372 |  | 31

Total Annualized capital/startup costs: $0.

Total annual costs (operating/maintaining systems or purchasing services): $0.

Description: 30 CFR 57.22004(c), 57.22231, and 57.22239 require underground metal and nonmetal mines operators to notify MSHA as soon as possible if any of the following events occurs: (a) There is an outburst that results in 0.25 percent or more methane in the mine atmosphere; (b) there is a blowout that results in 0.25 percent or more methane in the mine atmosphere; (c) there is an ignition of methane; (d) air sample results indicate 0.25 percent or more methane in the mine atmosphere of a Subcategory I-B, I-C, II-B, V-B, or Category VI mine; If methane reaches 2.0 percent in a Category IV mine; or methane reaches 0.25 percent in the mine atmosphere of a Subcategory I-B, II-B, V-B, and VI mines, MSHA shall be notified immediately.

30 CFR 57.22229 and 57.22230 require that the mine atmosphere be tested for methane by a competent person or atmospheric monitoring system at least once every seven days, or a combination of both. Standards 57.22229(d) and 57.22230(c) require that the person performing the tests certify by signature and date that the tests have been conducted. Certifications of examinations shall be kept for at least one year and made available at the mine for MSHA inspectors. Where examinations disclose hazardous conditions, affected miners must be informed.

Agency: Mine Safety and Health Administration.

Type of Review: Extension of a currently approved collection.

Title: Safety Standards for Roof Bolts in Metal and Nonmetal Mines and Underground Coal Mines.

OMB Number: 1219-0121.

Frequency: On occasion; Quarterly; and Semi-annually.

Type of Response: Recordkeeping.

Affected Public: Business or other for-profit.

Information collection requirement | Number of respondents | Annual responses | Average response time (hours) | Annual burden hours
M/NM Surface | 20 | 40 | 0.05 | 2
M/NM Underground | 180 | 720 | 0.05 | 36
Coal Underground | 893 | 3,572 | 0.05 | 179
Grant Total | 1,093 | 4,332 |  | 217

Total Annualized capital/startup costs: $0.

Total annual costs (operating/maintaining systems or purchasing services): $0.

Description: 30 CFR 56.3203(a), 57.3203(a), and 75.204(a) require mine operators to obtain certification from the manufacturer that roof and rock bolts and accessories are manufactured and tested in accordance with applicable American Society for Testing and Materials specifications and make the certification available to an authorized representative of the Secretary.

Ira L. Mills,
Departmental Clearance Officer.

[FR Doc. 03-16705 Filed 7-1-03; 8:45 am]

BILLING CODE 4510-43-M